DEPARTMENT OF TRANSPORTATION

Federal Highway Administration

Notice To Rescind a Notice of Intent for an Environmental Impact Statement for the Kake Access Project in Southeast Alaska

AGENCY: Federal Highway Administration, Department of Transportation.

ACTION: Notice to rescind a Notice of Intent for an Environmental Impact Statement.

SUMMARY: A Notice of Intent (NOI) to prepare an Environmental Impact Statement (EIS) was published in the Federal Register on January 22, 2013. The FHWA is issuing this notice to advise the public that FHWA and the Alaska Department of Transportation and Public Facilities (ADOT&PF) will no longer prepare an EIS for the Kake Access project. The purpose of the Kake Access project was to provide Kake residents with more frequent, faster and cost effective surface transportation access to medical facilities, goods and services, education facilities, and economic opportunities not available in Kake.

FOR FURTHER INFORMATION CONTACT: Mike Traffalis, Project Manager, Federal Highway Administration-Western Federal Lands, 610 E. 5th St., Vancouver, WA 98661. 360-619-7700.

SUPPLEMENTARY INFORMATION: The 2004 Southeast Alaska Transportation Plan (SATP) identified the need to improve the transportation system between communities in southeast Alaska. One improvement includes providing local access between the community of Kake and a major transportation and commercial hub. The 2012 Alaska Legislature appropriated $40 million to ADOT&PF for construction of a roadway connecting the communities of Kake and Petersburg.

On January 22, 2013, FHWA issued a Notice of Intent (NOI) to advise the public that it intended to prepare an EIS for a proposed transportation project to improve access to and from the community of Kake (Federal Register Volume 78, Number 14). The Western Federal Lands Highway Division of FHWA was the lead Federal agency for the project. A draft purpose and need statement was prepared in June 2013. Scoping meetings were held on the purpose and need statement and preliminary alternatives. Following the public meeting, FHWA and ADOT&PF determined that the purpose and need statement should be better defined.

To refine the project's purpose and need statement, a public phone survey and a transportation needs assessment were completed to provide more information about current travel patterns between Kake and surrounding communities. The needs assessment summarized prior work on the Kake Access Project, analyzed travel patterns, documented perceptions of project benefits and potential negative effects, and estimated potential annual average daily traffic counts for round trips between Kake and Petersburg. Public meetings were held in Kake and Petersburg in March 2014 to present the results and to give residents an opportunity to provide input and ask questions about the proposed project. A revised purpose and need statement was drafted in May 2015. The FHWA and ADOT&PF studied project alternatives and began narrowing down the list to a reasonable range of alternatives to be analyzed in the EIS. Public meetings were held in Kake and Petersburg in September 2015 and another public survey was completed November 2015 through January 2016 to collect public input on the project.

In February 2016, ADOT&PF decided to close the Kake Access project. The principal factors supporting the decision to close the project is that the Federal project is not fully funded and the need to operate and maintain a shuttle ferry would add significantly to ADOT&PF's annual maintenance and operating expense.

The purpose of this notice is to rescind the January 22, 2013 NOI to prepare an EIS for the Kake Access project.

Authority: 23 U.S.C. 315; 49 CFR 1.48.

Issued on: April 7, 2016.
Sandra L. Otto,
Division Director, Western Federal Lands Highway Division, Federal Highway Administration.

[FR Doc. 2016-08456 Filed 4-12-16; 8:45 am]

BILLING CODE 4910-22-P